DEPARTMENT OF VETERANS AFFAIRS

[OMB Control No. 2900-New (VOV)]

Agency Information Collection (Veterans Benefits Administration (VBA) Voice of the Veteran (VOV) Pilot Surveys); Activity Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before May 13, 2011.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VOV)” in any correspondence.

For Further Information or a Copy of the Submission Contact: Denise McLamb, Enterprise Records Service (005R1B), Department of Veterans Affairs, 810 Vermont Avenue, NW., Washington, DC 20420, (202) 461-7485, FAX (202) 461-0966 or e-mail: denise.mclamb@va.gov. Please refer to “OMB Control No. 2900-New (VOV).”

SUPPLEMENTARY INFORMATION: Title: Veterans Benefits Administration (VBA) Voice of the Veteran (VOV) Pilot Surveys.

a. Compensation and Pension (C&P) Service Surveys.

J.D. Power will be pilot testing three survey instruments for the Compensation and Pension (C&P) Service line of business. Based on the numerous interviews conducted, JDPA has separated the Veterans experience with C&P into two categories—Enrollment in a Benefit and Servicing of a Benefit. There will be one survey instrument for the Enrollment category that will be used for both compensation and pension claimants; compensation beneficiaries and pension beneficiaries will receive separate Servicing instruments. The Enrollment questionnaire will include factors relating to benefit eligibility and the application process, benefit entitlement, benefit information, and VA personnel. The Servicing questionnaires will include the same factors as Enrollment, with the exception of benefit eligibility and the application process factor. The results of the pilot test will be used to examine the effectiveness and reliability of the survey instrument, including an evaluation of the levels of non-response for each question.

The survey pool for the pilot C&P Enrollment questionnaire will include individuals who have received a decision on a compensation or pension benefit claim within 30 days prior to the fielding period. The sample will be stratified as follows: (1) Type of benefit (i.e., Compensation, Pension) (2) claimants who were found eligible (3) claimants who were found ineligible and are not appealing their claim. The survey pool for the pilot Compensation servicing questionnaire will include individuals who have been receiving compensation benefits for at least 6 months or individuals who received a decision on a compensation claim 6-18 months prior to the field period. The sample will be stratified as follows: (1) Individuals who were granted a decision, are receiving benefits and not appealing their benefit, (2) individuals who were granted a decision, are receiving benefits and are appealing their benefit, (3) individuals who were denied benefits and are appealing (4) individuals who were denied benefits and are not appealing. The survey pool for the pilot Pension servicing questionnaire will include individuals who have been receiving pension benefits for at least 6 months or individuals who received a decision on a pension claim 6-18 months prior to the field period. The sample will be stratified as follows: (1) Individuals who were granted a decision, are receiving benefits and not appealing their benefit, (2) individuals who were granted a decision, are receiving benefits and are appealing for additional special benefits (i.e., Aid and Attendance, Housebound), (3) individuals who were denied benefits and are appealing.

b. Education (EDU) Service Surveys.

J.D. Power will be pilot testing two survey instruments for the Education (EDU) Service line of business. Based on the numerous interviews conducted, JDPA has separated the Veterans experience with Education into two categories—Enrollment in a Benefit and Servicing of a Benefit. There will be one survey instrument for the Enrollment category and one survey instrument for the Servicing category. The Enrollment questionnaire will include factors relating to benefit eligibility and the application process, benefit entitlement, benefit information, and VA personnel. The Servicing questionnaire will include the same factors as Enrollment, with the exception of benefit eligibility and the application process factor. The results of the pilot test will be used to examine the effectiveness and reliability of the survey instrument, including an evaluation of the levels of non-response for each question.

The survey pool for the pilot Education Enrollment questionnaire will include individuals who have received a decision on their education benefit application within 90 days (i.e., the original end-product has been cleared within the past 90 days) prior to the fielding period. The sample will be stratified as follows: (1) Accepted and enrolled, (2) accepted and not enrolled, (3) denied. The survey pool for the pilot Education Servicing questionnaire will include beneficiaries who have been enrolled and receiving education benefit payments for at least 2 consecutive school terms prior to the fielding period.

c. Loan Guaranty (LGY) Service Surveys.

J.D. Power will be pilot testing two survey instruments for the Loan Guaranty (LGY) Service line of business. Based on the numerous interviews conducted, JDPA has separated the Veterans experience with Loan Guaranty into two categories—Home Loan Enrollment and Processing, and Specially Adapted Housing Servicing (Assessment and Grant Process). There will be one survey instrument for the Home Loan category, and one survey instrument for the Specially Adapted Housing category. The Home Loan Enrollment questionnaire will include factors relating to benefit eligibility and the application process, benefit entitlement, benefit information, and VA personnel. Additionally, the Home Loan questionnaire will address areas specific to the Loan Process. The Specially Adapted Housing Servicing questionnaire will include the same factors as Home Loan, but will address the grant process rather than the loan process. The results of the pilot test will be used to examine the effectiveness and reliability of the survey instrument, including an evaluation of the levels of non-response for each question.

The survey pool for the pilot LGY Enrollment questionnaire will include individuals who closed a VA home loan in the 30 days prior to the fielding period. The sample will be stratified as follows: (1) Those who closed on purchase loans, (2) those who received loans for interest rate reductions, and (2) those who obtained cash out or other refinancing. The survey pool for the pilot SAH servicing questionnaire will include individuals who are eligible for a specially adapted housing grant in FY 2009. The sample will be stratified as follows: (1) Those who have not yet applied, (2) those who have applied but have not yet received a decision, (3) those who have received an approval on their grant and are currently somewhere in post-approval, (4) those who have had all their funds disbursed and final accounting is not yet complete, and (5) those who have had all of their funds disbursed and final accounting is complete.

d. Vocational Rehabilitation and Employment (VR&E) Service Surveys.

J.D. Power will be pilot testing three survey instruments for the Vocational Rehabilitation and Employment (VR&E) Service line of business. Based on the numerous interviews conducted, JDPA has separated the Veterans experience with Education into three categories—Enrollment in a Benefit, Servicing of a Benefit, and Escaped Beneficiaries. There will be one survey instrument for the Enrollment category, one survey instrument for the Servicing category, and one survey instrument for the Escaped Beneficiary category. The Enrollment questionnaire will include factors relating to benefit eligibility and the application process, benefit entitlement, benefit information, and VA personnel. The Servicing questionnaire will include the same factors as Enrollment, with the exception of benefit eligibility and the application process factor. The Escaped Beneficiary questionnaire will include similar factors to Enrollment and Servicing, however, the questionnaire will address the experience that is unique to potential beneficiaries who applied for the benefit but decided not to pursue the benefit or services provided, including the reasons why they chose not to continue with the benefit application process or the VR&E program. The results of the pilot test will be used to examine the effectiveness and reliability of the survey instrument, including an evaluation of the levels of non-response for each question.

The survey pool for the pilot VR&E Enrollment questionnaire will include individuals who had an initial meeting with their VR&E counselor and were granted a decision regarding their entitlement in the past 60 days prior to the fielding period. The sample will be stratified as follows: (1) Those who applied, showed up for an initial appointment, were found entitled to and decided to pursue the program, (2) those who applied, showed up for an initial appointment, were found entitled to and decided not to pursue the program, (3) those who applied, showed up for an initial appointment and were not found entitled to the program. The survey pool for the pilot VR&E Servicing questionnaire will include individuals who have entered and been enrolled in one of the five tracks for at least 60 days prior to the fielding period. The sample will be stratified as follows: (1) Veterans who are currently participating, (2) Veterans who have been rehabilitated, (3) Veterans who did not fully complete program (negative closures), and (4) Veterans who have reached maximum rehabilitation gain and could not proceed in program. The survey pool for the pilot VR&E Escaped Beneficiary questionnaire will include individuals who dropped out of the program prior to completing a rehabilitation plan. The sample will be stratified as follows: (1) Applicants who never attended the initial meeting with a counselor, (2) applicants who were determined to be entitled and did not complete a rehabilitation plan, and (3) applicants who started, but did not complete rehabilitation (i.e., negative closures).

OMB Control Number: 2900-New (VOV).

Type of Review: New collection.

Abstract: In 2008, VBA recognized a need to develop and design an integrated, comprehensive Voice of the Veteran (VOV) measurement program for their lines of business. This continuous measurement program will help VBA understand what is important to Veterans relative to VBA services and will provide VA/VBA leadership with actionable and timely customer feedback on how VBA is performing against those metrics. Insights will help identify opportunities for improvement and measure the impact of improvement initiatives.

The program started with numerous interviews with stakeholders at various levels within the VBA organization and Veterans Service Organizations to identify information needs and perceived gaps in current processes. Surveys are designed to address those needs.

VBA has engaged J.D. Power and Associates to conduct this survey initiative. The questionnaires are drafted in accordance with the J.D. Power and Associates Index Model—the cornerstone of all proprietary and syndicated research studies conducted by J.D. Power. The model will allow J.D. Power to quantify, based on the survey data, what is most important and least important with regard to satisfying our nation's Veterans.

All survey instruments for each line of business, Compensation and Pension Service, Education Service, Vocational Rehabilitation and Employment Service, and Loan Guaranty Service, will contain common factors to allow VBA to compare scores across lines of business. In addition, JDPA will be in a position to provide VBA with an Overall Satisfaction score for their experience across all benefits provided by VBA.

An agency may not conduct or sponsor, and a person is not required to respond to a collection of information unless it displays a currently valid OMB control number. The Federal Register Notice with a 60-day comment period soliciting comments on this collection of information was published on January 24, 2011, at pages 4152-4153.

Affected Public: Individuals and Households.

Estimated Annual Burden:

a. Compensation and Pension (C&P) Service Surveys—3,000 hours.

b. Education (EDU) Service Surveys—1,500 hours.

c. Loan Guaranty (LGY) Service Surveys—1,125 hours.

d. Vocational Rehabilitation and Employment (VR&E) Service Surveys—1,875 Hours.

Estimated Average Burden per Respondent: 15 minutes.

Frequency of Response: One time.

Estimated Number of Respondents:

a. Compensation and Pension (C&P) Service Surveys—12,000.

b. Education (EDU) Service Surveys—6,000.

c. Loan Guaranty (LGY) Service Surveys—4,500.

d. Vocational Rehabilitation and Employment (VR&E) Service Surveys—7,500.

Dated: April 8, 2011.
By direction of the Secretary.
Denise McLamb,
Program Analyst, Enterprise Records Service.

[FR Doc. 2011-8902 Filed 4-12-11; 8:45 am]

BILLING CODE 8320-01-P